OFFICE OF MANAGEMENT AND BUDGET

Office of Federal Procurement Policy

Anti-Trafficking Risk Management Best Practices & Mitigation Considerations Guidance

AGENCY: Office of Federal Procurement Policy, Office of Management and Budget.

ACTION: Notice; request for comments.

SUMMARY: The Office of Federal Procurement Policy (OFPP) in the Office of Management and Budget (OMB) is seeking comment on a draft memorandum that it has developed in coordination with the Office to Monitor and Combat Trafficking in Persons in the Department of State (DOS) and the Department of Labor (DOL), as Co-Chairs of the Procurement and Supply Chains Committee of the Senior Policy Operating Group of the President's Interagency Task Force to Monitor and Combat Trafficking in Persons (the “SPOG Committee”), to address anti-trafficking risk management best practices and mitigation considerations. This guidance is designed to help an agency determine if a contractor is taking adequate steps to meet its anti-trafficking responsibilities under the Federal Acquisition Regulation (FAR).

DATES: Interested parties should submit comments in writing to the address below on or before January 9, 2017.

ADDRESSES: Comments may be submitted by any of the following methods:

Via email: OFPPData@omb.eop.gov

Facsimile: 202-395-5105

Instructions: Please submit comments only and cite “Proposed Memo on Anti- Trafficking” in all correspondence.

FOR FURTHER INFORMATION CONTACT: Porter Glock, Office of Federal Procurement Policy at 202-395-3145 or pglock@omb.eop.gov.

Availability: Copies of the draft memorandum may be obtained at the OMB home page at https://www.whitehouse.gov/omb/procurement.

SUPPLEMENTARY INFORMATION: Executive Order 13627, Strengthening Protections Against Trafficking in Persons in Federal Contracts, and Title XVII of the National Defense Authorization Act (NDAA) for FY 2013, Ending Trafficking in Government Contracting, established requirements for government contracts to prevent trafficking in persons. As a result, the Federal Acquisition Regulatory Council amended the FAR to implement these requirements.

The co-chairs of the SPOG Committee, OMB, DOS, and DOL (“Co-Chairs”), expect contractors to be proactive and forthcoming in their efforts to address and reduce the risk of human trafficking in their operations and supply chains. At the same time, OMB, State, and DOL recognize that not all contractors are similarly situated and some, such as those with large supply chains, may face more challenges than others in meeting their responsibilities. In addition, not all risks are equal in their impact. To this end, the Co-Chairs developed a set of best practices and mitigation considerations to help contracting officers determine if a contractor is taking adequate steps to meet its anti-trafficking responsibilities under the FAR. In addition, to promote clarity and consistency in the implementation of anti-trafficking requirements, the Co-Chairs also developed responses to a number of frequently asked questions posed by stakeholders following the publication of the final FAR rule.

The Co-Chairs encourage feedback on the draft guidance. Comments are especially welcome on identified best practices and mitigating steps as well as any additional information that may be relevant to helping a contracting officer determine if an existing Federal contractor who reports a trafficking incident has taken reasonable actions or if a prospective contractor is able to address trafficking challenges where the agency is planning an acquisition in an environment that is at high risk of trafficking.

This draft memorandum is another step in an ongoing effort to provide tools to the federal acquisition community—both contracting officers and contractors—to ensure the effective implementation of E.O. 13627 and the NDAA. These tools include (i) an interactive online platform, www.ResponsibleSourcingTool.org, which enables federal contractors and other entities to visualize human trafficking risks by location, industry sector, and commodity, (ii) online training for both contractors and government acquisition officers on the FAR changes to address the strengthened trafficking requirements for federal contracts, and (iii) additional rulemaking to help ensure contractors fully understand what is expected of them to be in compliance with the prohibition on charging employees and potential employees recruitment fees.

Lesley A. Field,
Acting Administrator.

[FR Doc. 2016-29434 Filed 12-7-16; 8:45 am]

BILLING CODE P